DEPARTMENT OF COMMERCE

National Oceanic and Atmospheric Administration

RIN 0648-XG365

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Salmon Technical Team (STT), Salmon Advisory Subpanel (SAS), and Model Evaluation Workgroup (MEW) will hold a joint meeting to discuss and make recommendations on issues on the Pacific Council's September 2018 agenda. This meeting will be held via webinar and is open to the public.

DATES: The webinar will be held Wednesday, August 22, 2018, at 2 p.m. and will end when business for the day has been completed.

ADDRESSES: The meeting will be held via webinar. A public listening station is available at the Pacific Council office (address below). To attend the webinar, use this link: https://www.gotomeeting.com/webinar (click “Join a Webinar” in top right corner of page). (1) Enter the Webinar ID: 493-298-571. (2) Enter your name and email address (required). You must use your telephone for the audio portion of the meeting by dialing this TOLL number 1-415-930-5321. (3) Enter the Attendee phone audio access code 706-308-295. (4) Enter your audio phone pin (shown after joining the webinar). Note: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see https://www.gotomeeting.com/webinar/ipad-iphone-android-webinar-apps). You may send an email to Mr. Kris Kleinschmidt at Kris.Kleinschmidt@noaa.gov or contact him at 503-820-2280, extension 411 for technical assistance.

Council address: Pacific Fishery Management Council, 7700 NE Ambassador Place, Suite 101, Portland, OR 97220-1384.

FOR FURTHER INFORMATION CONTACT: Robin Ehlke, Pacific Council; telephone: (503) 820-2410.

SUPPLEMENTARY INFORMATION: Major topics include, but are not limited to, Salmon Methodology Review, Salmon Rebuilding Plan update, and preliminary Pacific halibut management for 2019. The groups may also address one or more of the Council's scheduled Administrative Matters and Ecosystem topics. Public comments during the webinar will be received from attendees at the discretion of the STT, SAS, and MEW Chairs.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2411) at least 10 days prior to the meeting date.

Dated: July 31, 2018.
Tracey L. Thompson,
Acting Deputy Director, Office of Sustainable Fisheries, National Marine Fisheries Service.

[FR Doc. 2018-16698 Filed 8-3-18; 8:45 am]

BILLING CODE 3510-22-P